DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 20, 2009.

Interested persons are invited to submit written comments regarding the subject matter of the investigations to the Director, Division of Trade Adjustment Assistance, at the address shown below, not later than February 20, 2009.

The petitions filed in this case are available for inspection at the Office of the Director, Division of Trade Adjustment Assistance, Employment and Training Administration, U.S. Department of Labor, Room N-5428, 200 Constitution Avenue, NW., Washington, DC 20210.

Signed at Washington, DC, this 30th day of January 2009.
Linda G. Poole,
Certifying Officer, Division of Trade Adjustment Assistance.

Appendix
[TAA petitions instituted between 1/12/09 and 1/16/09]
TA-W | Subject firm (petitioners) | Location | Date of institution | Date of petition
64851 | Glenn Springs Holdings, Inc. (Comp) | New Castle, DE | 01/12/09 | 01/08/09
64852 | MGP Ingredients, Inc. (UFCW) | Pekin, IL | 01/12/09 | 01/09/09
64853 | Ethan Allen Operations, Inc. (Comp) | Eldred, PA | 01/12/09 | 01/09/09
64854 | United Knitting LP (Comp) | Cleveland, TN | 01/12/09 | 01/09/09
64855 | Federal-Mogul Corporation (Comp) | Frankfort, IN | 01/12/09 | 01/09/09
64856 | Louisiana Pacific (Wkrs) | New Limerick, ME | 01/12/09 | 01/09/09
64857 | Hutamaki Flexibles, Inc. (Comp) | Malvern, PA | 01/12/09 | 01/09/09
64858 | Wabash Alloys, LLC (USW) | Tipton, IN | 01/12/09 | 01/09/09
64859 | New Castle E Coating Plus, LLC (Comp) | New Castle, IN | 01/12/09 | 12/31/08
64860 | The McClatchy Company (Wkrs) | Modesto, CA | 01/12/09 | 01/07/09
64861 | U.S. Marine (Comp) | Arlington, WA | 01/12/09 | 01/08/09
64862 | Cintas Corporation (Comp) | Mason, OH | 01/12/09 | 01/09/09
64863 | TRW Automotive (Comp) | Auburn, NY | 01/12/09 | 01/08/09
64864 | CDG Management, LLC (Wkrs) | Central City, KY | 01/12/09 | 01/08/09
64865 | Star Building Systems (Wkrs) | Lockeford, CA | 01/12/09 | 01/09/09
64866 | Laird Technologies (Comp) | Chattanooga, TN | 01/12/09 | 01/08/09
64867 | Hickory White Furniture (Comp) | Hickory, NC | 01/13/09 | 01/12/09
64868 | Costa Blanca Textile, Inc. (Comp) | High Point, NC | 01/13/09 | 01/08/09
64869 | Alexvale Furniture/Kincaid Furniture Co. (Comp) | Taylorsville, NC | 01/13/09 | 01/13/09
64870 | Molded Fiber Glass Co. (Comp) | Stevenson, WA | 01/13/09 | 01/12/09
64871 | Mars Petcare US, Inc. (State) | Vernon, CA | 01/13/09 | 01/12/09
64872 | Trinity North American (NA) Freightcar, Inc. (Wkrs) | Springfield, MO | 01/13/09 | 01/12/09
64873 | Rohm and Haas Company (Comp) | Louisville, KY | 01/13/09 | 01/07/09
64874 | Greenwell Chisholm Printing, Inc. (Comp) | Owensboro, KY | 01/13/09 | 01/12/09
64875 | Rosboro Springfield Operations (Union) | Springfield, OR | 01/13/09 | 01/11/09
64876 | Bridgestone Firestone North American Tire, LLC (AFLCIO) | LaVergne, TN | 01/13/09 | 01/12/09
64877 | AGC Automotive Americas (Wkrs) | Bellefontaine, OH | 01/13/09 | 01/12/09
64878 | EDS, AN HP Company (Wkrs) | Charlotte, NC | 01/13/09 | 01/09/09
64879 | Maxim Integrated Products (Comp) | Beaverton, OR | 01/13/09 | 01/11/09
64880 | Dell, Inc. (Wkrs) | Round Rock, TX | 01/13/09 | 01/12/09
64881 | Dalmar Precision, Inc. (Comp) | Saegertown, PA | 01/14/09 | 01/13/09
64882 | Amphenol TCS (Comp) | Nashua, NH | 01/14/09 | 01/05/09
64883 | Celestica (State) | Arden Hills, MN | 01/14/09 | 01/13/09
64884 | White Rodgers (State) | Batesville, AR | 01/14/09 | 01/13/09
64885 | Scholastic (Wkrs) | Moberly, MO | 01/14/09 | 01/07/09
64886 | Trane Residential Systems (State) | Ft. Smith, AR | 01/14/09 | 01/13/09
64887 | Pall Life Sciences (Comp) | Ann Arbor, MI | 01/14/09 | 01/08/09
64888 | Schaeffler Group USA, Inc. (Comp) | Spartanburg, SC | 01/14/09 | 01/13/09
64889 | Columbia Machine, Inc. (Comp) | Vancouver, WA | 01/14/09 | 01/12/09
64890 | DHL (Wkrs) | Breinigsville, PA | 01/14/09 | 01/13/09
64891 | American Pacific (State) | Grove City, OH | 01/14/09 | 01/12/09
64892 | Superior Industries International, Inc. (Comp) | Van Nuys, CA | 01/14/09 | 01/13/09
64893 | Dreamer Design (Comp) | Yakima, WA | 01/14/09 | 01/13/09
64894 | Georgia-Pacific Corporation (Comp) | Green Bay, WI | 01/14/09 | 01/13/09
64895 | II VI, Incorporated (Wkrs) | Saxonburg, PA | 01/14/09 | 01/09/09
64896 | Logistics Services, Inc. (Union) | Dayton, OH | 01/14/09 | 01/06/09
64897 | Sanford (Comp) | Lewisburg, TN | 01/15/09 | 01/15/09
64898 | Tyco Electronics (Rep) | Menlo Park, CA | 01/15/09 | 01/12/09
64899 | Contact Technologies, Inc. (Comp) | St. Marys, PA | 01/15/09 | 01/13/09
64900 | Direct Tooling Group (State) | Wayland, MI | 01/15/09 | 01/13/09
64901 | Regal-Beloit Corporation (Rep) | Neillsville, WI | 01/15/09 | 01/09/09
64902 | S.E.H. America (98682) | Vancouver, WA | 01/15/09 | 01/14/09
64903 | Foamex International, Inc. (Comp) | Santa Teresa, NM | 01/15/09 | 01/09/09
64904 | R.L. Stowe Mills, Inc. (National Plant) (Comp) | Belmont, NC | 01/15/09 | 01/13/09
64905 | TRW (State) | Warrenton, GA | 01/15/09 | 01/14/09
64906 | Fabric Trends International (Wkrs) | West Hartford, CT | 01/15/09 | 01/14/09
64907 | Domino Lasers, Inc. (Comp) | Anaheim, CA | 01/15/09 | 01/14/09
64908 | Larson Boats/Genmar Minnesota (State) | Little Falls, MN | 01/15/09 | 01/14/09
64909 | American National Rubber (LIUNA) | Ceredo, WV | 01/15/09 | 01/14/09
64910 | Avery Dennison Corporation (Comp) | Greensboro, NC | 01/15/09 | 01/14/09
64911 | Brite Star Manufacturing Company (Wkrs) | Philadelphia, PA | 01/15/09 | 01/14/09
64912 | Road and Rail Services, Inc. (Wkrs) | Venice, IL | 01/15/09 | 12/17/08
64913 | Phillips Plastics Custom (Wkrs) | Phillips, WI | 01/15/09 | 01/04/09
64914 | M&Q Plastic Products (Wkrs) | North Wales, PA | 01/16/09 | 01/12/09
64915 | Mahle Clevite, Inc. (Comp) | Churubusco, IN | 01/16/09 | 12/17/08
64916 | Panasonic Electronic Devices Corp. of America (Comp) | Knoxville, TN | 01/16/09 | 01/15/09
64917 | Trans-Tech, Inc. (Comp) | Adamstown, MD | 01/16/09 | 01/16/09
64918 | Lehman Brothers (State) | New Haven, CT | 01/16/09 | 01/15/09
64919 | Modine Manufacturing Company (Comp) | Logansport, IN | 01/16/09 | 01/15/09
64920 | Heritage Products, Inc. (Comp) | Crawfordsville, IN | 01/16/09 | 01/15/09

[FR Doc. E9-2730 Filed 2-9-09; 8:45 am]

BILLING CODE 4510-FN-P